DEPARTMENT OF THE INTERIOR

Bureau of Land Management

[LLCOS05000.L13100000.EJ0000.241A]

Notice of Availability of the Draft Environmental Impact Statement for the Bull Mountain Unit Master Development Plan, Gunnison County, CO

AGENCY: Bureau of Land Management, Interior.

ACTION: Notice.

SUMMARY: In accordance with the National Environmental Policy Act of 1969, as amended, the Bureau of Land Management (BLM) prepared a Draft Environmental Impact Statement (EIS) for the Bull Mountain Unit Master Development Plan (MDP) and by this notice is announcing the opening of the comment period.

DATES: To ensure comments will be considered, the BLM must receive written comments on the Bull Mountain MDP Draft EIS within 45 days following the date the Environmental Protection Agency publishes its Notice of Availability in the Federal Register. The BLM will announce future meetings or hearings and any other public involvement activities at least 15 days in advance through public notices, media releases and/or mailings.

ADDRESSES: You may submit comments related to the Bull Mountain MDP Draft EIS by any of the following methods:

• Email: bullmtneis@blm.gov.

• Fax: 970-240-5368.

• Mail: Bureau of Land Management, Uncompahgre Field Office, Attn: Jerry Jones, 2465 South Townsend Avenue, Montrose, CO 81401.

Copies of the Bull Mountain MDP Draft EIS are available for download on the project Web site (www.blm.gov/co/st/en/BLM_Information/nepa/ufo/Bull_Mountain_EIS.html) and on CD from the Uncompahgre Field Office at the above address.

FOR FURTHER INFORMATION CONTACT: Jerry Jones, Bull Mountain MDP Project Manager, at 970-240-5300, j2jones@blm.gov, or at the address above. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM Uncompahgre Field Office received a proposed MDP for natural gas exploration and development from SG Interests I, Ltd. (SGI) for the Bull Mountain Unit. An MDP provides information common to multiple planned wells, including drilling plans, Surface Use Plans of Operations, and plans for future production.

The Bull Mountain Unit MDP Draft EIS describes the exploration and development of up to 146 natural gas wells, four water disposal wells and associated infrastructure on Federal and private mineral leases within a federally unitized area known as the Bull Mountain Unit. SGI decided to develop the unit after their exploration wells demonstrated the potential for economically viable reserves of natural gas.

The Bull Mountain Unit is located within the Colorado River basin, approximately 30 miles northeast of the Town of Paonia and is bisected by State Highway 133. The boundaries of the unit encompass approximately 19,670 acres, Federal and private oil, and gas mineral estate in Gunnison County, Colorado. The unit consists of 440 acres of BLM Federal surface and subsurface land; 12,900 acres of split-estate lands consisting of private surface and Federal subsurface minerals administered by the BLM; and 6,330 acres of fee land consisting of private surface and private subsurface minerals.

The BLM is considering three alternatives in the Draft EIS: The No Action alternative, the MDP as submitted, and a third alternative developed by the BLM to help evaluate the effects of various modification and mitigation possibilities.

Work on the MDP began with a preliminary Environmental Assessment in 2009. The BLM determined that an EIS was necessary due to potential significant impacts to air quality in nearby Class 1 air sheds, water, socioeconomics and wildlife.

Please note that public comments and information submitted including names, street addresses and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Ruth Welch,
BLM Colorado State Director.

[FR Doc. 2015-00458 Filed 1-15-15; 8:45 am]

BILLING CODE 4310-JB-P